DEPARTMENT OF THE TREASURY

United States Mint

Pricing for the 2015 United States Marshals 225th Anniversary Commemorative Coin Program

AGENCY: United States Mint, Department of the Treasury.

ACTION: Notice.

SUMMARY: The United States Mint is announcing pricing for the 2015 United States Marshals 225th Anniversary Commemorative Coin Program as follows:

Coin | Introductory price | Regular price
Silver Proof | $46.95 | $51.95
Silver Uncirculated | 43.95 | 48.95
Clad Proof | 14.95 | 18.95
Clad Uncirculated | 13.95 | 17.95

Products containing gold coins will be priced according to the Pricing of Numismatic and Commemorative Gold and Platinum Products Grid posted at www.usmint.gov.

FOR FURTHER INFORMATION CONTACT: Marc Landry, Acting Associate Director for Sales and Marketing; United States Mint; 801 9th Street NW., Washington, DC 20220; or call 202-354-7500.

Authority: 31 U.S.C. §§ 5111 & 9701; Public Law 112-104, sec. 6(a).

Dated: September 17, 2014.
Richard A. Peterson,
Deputy Director, United States Mint.

[FR Doc. 2014-23278 Filed 9-29-14; 8:45 am]

BILLING CODE P